DEPARTMENT OF TRANSPORTATION

Office of the Secretary

[Docket No. DOT-OST—2019-0167]

Rural Opportunities To Use Transportation for Economic Success: Request for Information

AGENCY: Office of the Secretary, Department of Transportation (DOT).

ACTION: Request for information (RFI).

SUMMARY: On October 28, 2019, the Secretary of Transportation issued an order launching the Rural Opportunities to Use Transportation for Economic Success (ROUTES) initiative. ROUTES will help the Department of Transportation (DOT) address disparities in rural transportation infrastructure to tangibly improve safety and economic competitiveness in all parts of the country. This notice requests comments on unmet transportation infrastructure needs in rural transportation, barriers that rural communities face in addressing these needs, stakeholders' experiences with applying to and using DOT discretionary grant and credit programs, and opportunities for DOT to improve its services and technical assistance to rural communities in relation to these grant and credit programs.

DATES: Comments must be received on or before 30 days from posting of this notice. DOT will consider comments filed after this date to the extent practicable.

ADDRESSES: Comments should refer to the docket number above and be submitted by one of the following methods:

• Electronic Submission: Go to http://www.regulations.gov. Search by using the docket number (provided above). Follow the instructions for submitting comments on the electronic docket site.

• Mail: Docket Management Facility, U.S. Department of Transportation, 1200 New Jersey Avenue SE, West Building Ground Floor, Room PL-401, Washington, DC 20590-0001.

• Hand Delivery or Courier: 1200 New Jersey Avenue SE, West Building Ground Floor, Room PL-401, Washington, DC, between 9 a.m. and 5 p.m. ET, Monday through Friday, except Federal Holidays.

Instructions: All submissions must include the agency name and docket numbers.

Note: All comments received, including any personal information, will be posted without change to the docket and will be accessible to the public at http://www.regulations.gov. You should not include information in your comment that you do not want to be made public. Input submitted online via www.regulations.gov is not immediately posted to the site. It may take several business days before your submission is posted.

FOR FURTHER INFORMATION: Visit http://www.transportation.gov/rural, or contact Robert Hyman at rural@dot.gov or 202-366-5843.

SUPPLEMENTARY INFORMATION:

Background

The mission of the DOT is to ensure our Nation has the safest, most efficient, and modern transportation system in the world; that improves the quality of life for all American people and communities, from rural to urban; and increases the productivity and competitiveness of American workers and businesses. To accomplish this mission, Congress authorizes and appropriates funds to the DOT, which administers a large portfolio of grant and credit programs to maintain and improve aspects of our transportation network. Each year, DOT awards billions of dollars in discretionary transportation grants using prescribed selection and eligibility criteria.

Rural transportation networks are critically important for domestic uses and export of agriculture, mining, and energy commodities, as well as the quality of life for all Americans. However, rural networks face unique challenges in safety, infrastructure condition, and usage.

To address these issues, on October 28, 2019, the Secretary of Transportation issued an order launching the Rural Opportunities to Use Transportation for Economic Success (ROUTES) initiative. ROUTES will improve how the DOT considers rural project applications in DOT's discretionary grant and credit programs, including ensuring that project costs, local resources, and the benefits to the American people and economy are appropriately considered. It will also provide rural communities with technical assistance for meeting the Nation's transportation infrastructure investment needs in a financially sustainable manner.

DOT seeks information directly from the public and other stakeholders to inform the development and implementation of the ROUTES initiative. DOT seeks comments that illustrate rural communities' needs and experiences with transportation infrastructure, including the condition of that infrastructure, its effect on safety, and how its use affects the community. For the purpose of this notice, “transportation” includes road, rail, transit, aviation, maritime, pipelines, and other forms of transportation; “infrastructure” includes all capital investment in transportation such as structures, equipment, and rolling stock. This includes comments and data pertaining to current unmet needs in rural transportation, barriers rural communities face in addressing these transportation needs, stakeholders' experiences with applying to and using DOT discretionary grant and credit programs, and opportunities for the DOT to improve its services and technical assistance to rural communities in relation to these grant and credit programs, within the limits of statutory requirements. In addition, DOT specifically requests comments and data in response to the questions below. To the extent possible, DOT seeks relevant technical information, regulatory citations, data, or other evidence to support the comments received.

1. Identifying Unmet Needs in Rural Transportation

A. What infrastructure issues are contributing to high fatality rates on rural roadways and rail-highway grade crossings (e.g., roadway condition or geometry, driver behavior, wildlife collisions)?

B. What unique challenges do rural areas face related to infrastructure condition (e.g., age of infrastructure or equipment, including vehicles, bridge closures or postings, types of freight carried, weather resiliency)?

C. How does infrastructure usage (e.g., access to public transportation, technology deployment) affect the lives of rural Americans?

D. What types of infrastructure projects are most needed in rural communities to meet national transportation priorities such as safety and economic competitiveness?

E. What types of rural transportation projects or services do rural communities find challenging to fund?

F. What additional or alternative methods can be used to identify and prioritize rural transportation projects for funding through discretionary grants?

2. Addressing Unmet Needs Through DOT Discretionary Grant Programs

A. What resources or direct assistance could DOT provide to support rural transportation projects or reach communities that may not be aware of DOT discretionary programs?

B. What challenges do rural communities face when applying for DOT grants and financial assistance (e.g., project prioritization, eligibility requirements, funding match)?

C. What types of technical assistance would be effective for navigating the application process?

Public Comment

DOT invites comments by all those interested in the Rural Opportunities to Use Transportation for Economic Success (ROUTES) initiative. Comments may be submitted and viewed at Docket Number DOT-OST-2019-0167 at http://www.regulations.gov, or at the address given above under ADDRESSES. Comments must be received on or before 30 days from posting of this notice to receive full consideration by DOT. After 30 days from posting of this notice, comments will continue to be available for viewing by the public.

Issued in Washington, DC, on November 22, 2019, under authority delegated at 49 U.S.C. 1.25a.
Joel Szabat,
Acting Under Secretary of Transportation for Policy.

[FR Doc. 2019-25785 Filed 11-26-19; 8:45 am]

BILLING CODE 4910-9X-P